DEPARTMENT OF ENERGY

Federal Energy Regulatory Commission

[Docket No. RP02-500-000]

Transcontinental Gas Pipe Line Corporation; Notice of Refund Report

August 23, 2002

Take notice that on August 15, 2002, Transcontinental Gas Pipe Line Corporation (Transco) tendered for filing a refund report showing that on August 14, 2002, Tansco submitted a report reflecting the flow through of a refund received from Dominion Transmission, Inc.

Transco states that it refunded to its FTNT customer, New York Power Authority, $2,032.67 resulting from the refund of Dominion Transmission, Inc. Annual Overrun/Penalty Revenue Distribution. Transco states that the refund covers the time period from September 1, 2002 to March 31, 2002.

Any person desiring to be heard or to protest said filing should file a motion to intervene or a protest with the Federal Energy Regulatory Commission, 888 First Street, NE, Washington, DC 20426, in accordance with Sections 385.214 or 385.211 of the Commission's Rules and Regulations. All such motions or protests must be filed on or before August 30, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-22051 Filed 8-28-02; 8:45 am]

BILLING CODE 6717-01-P